DEPARTMENT OF COMMERCE

National Oceanic and Atmospheric Administration

50 CFR Part 679

[Docket No. 240227-0061; RTID 0648-XD879]

Fisheries of the Exclusive Economic Zone Off Alaska; Gulf of Alaska; Final 2024 and 2025 Harvest Specifications for Groundfish; 2024 Rockfish Program Cooperative Allocations

AGENCY: National Marine Fisheries Service (NMFS), National Oceanic and Atmospheric Administration (NOAA), Commerce.

ACTION: Temporary rule.

SUMMARY: NMFS is providing notification for the Rockfish Program cooperative allocations as described in the final rule that published on March 4, 2024, implementing the final 2024 and 2025 harvest specifications and prohibited species catch limits for the groundfish fishery of the Gulf of Alaska (GOA). These allocations are necessary to provide the Rockfish Program cooperative amounts for 2024, thus allowing commercial fishermen to maximize their economic opportunities in this fishery. This notification comports with the Fishery Management Plan (FMP) for Groundfish of the GOA (GOA FMP).

DATES: Effective 1,200 hours, Alaska local time (A.l.t.), May 1, 2024, through 1,200 hours, A.l.t., December 31, 2024.

FOR FURTHER INFORMATION CONTACT: Abby Jahn, 907-586-7228.

SUPPLEMENTARY INFORMATION: NMFS manages the groundfish fishery in the GOA exclusive economic zone according to the FMP prepared by the North Pacific Fishery Management Council under authority of the Magnuson-Stevens Fishery Conservation and Management Act (Magnuson-Stevens Act). Regulations governing fishing by U.S. vessels in accordance with the FMP appear at subpart H of 50 CFR part 600 and 50 CFR parts 679 and 680.

As described in the final 2024 and 2025 harvest specifications for groundfish of the Gulf of Alaska, allocations among vessels belonging to catcher vessel (CV) cooperatives or catcher/processor (CP) cooperatives are not included in the final harvest specifications (March 4, 2024, 89 FR 15484). Rockfish Program applications for CV cooperatives and CP cooperatives are not due to NMFS until March 1 of each calendar year; therefore, NMFS cannot calculate 2024 and 2025 allocations in conjunction with the final harvest specifications (§ 679.81(f)). NMFS has received the 2024 Rockfish Program applications and has calculated the 2024 allocations for CV cooperatives and CP cooperatives, as set forth in § 679.81(b), (c), and (e). NMFS is listing the 2024 allocations in table 1.

BILLING CODE 3510-22-P

BILLING CODE 3510-22-C

Classification

NMFS issues this action pursuant to section 305(d) of the Magnuson-Stevens Act. Through previous actions, the FMP and regulations are designed to authorize NMFS to take this action. See 50 CFR part 679. This action is exempt from review under Executive Order 12866.

The Assistant Administrator for Fisheries, NOAA, finds good cause to waive the requirement to provide prior notice and opportunity for public comment pursuant to the authority set forth at 5 U.S.C. 553(b)(B), as such requirement is unnecessary and contrary to the public interest. This notification provides information on the 2024 Rockfish Program cooperative allocations, and does not change operating practices in the fisheries. This notification is consistent with the harvest specifications recommended by the North Pacific Fishery Management Council in December 2023 and implemented by NMFS in the final rule for the 2024 and 2025 harvest specifications (89 FR 15484, March 4, 2024). Those harvest specifications specify the final total allowable catch (TAC) limits from which NMFS calculates the Rockfish Program cooperative allocations based on existing regulations, which were implemented through prior notice and comment rulemaking (§ 679.81(b), (c), and (e)). The public was provided with notice and opportunity to comment during the public comment period for the proposed harvest specifications (88 FR 85184, December 7, 2023) and has had notice of the final harvest specifications implementing the final TAC limits (89 FR 15484, March 4, 2024). Because the public already had a meaningful opportunity to comment on the TAC limits from which these allocations are derived, further opportunity for public comment is unnecessary and would not be meaningful.

This notification announces the Rockfish Program cooperative allocations based on applications received after the publication of the 2024 and 2025 harvest specifications. If this notification is delayed to allow for notice and comment it could also result in confusion for participants in the Rockfish Program given that the final rule implementing the 2024 and 2025 harvest specifications is effective and the Rockfish Program fishery opens May 1, 2024. Therefore, the Assistant Administrator finds good cause to waive the requirement to provide prior notice and opportunity for public comment. For the reasons above, the Assistant Administrator also finds good cause under 5 U.S.C. 553(d)(3) to waive the 30-day delay in effective date and make this rule effective immediately upon publication.

Authority: 16 U.S.C. 1801 et seq.

Dated: April 23, 2024.
Everett Wayne Baxter,
Acting Director, Office of Sustainable Fisheries, National Marine Fisheries Service.

[FR Doc. 2024-09042 Filed 4-26-24; 8:45 am]

BILLING CODE 3510-22-P